DEPARTMENT OF DEFENSE

Office of the Secretary

Office of the Secretary of Defense (Health Affairs)/TRICARE Management Activity; Notice of a Demonstration Project for Expanded Access to Mental Health Counselors

AGENCY: Department of Defense.

ACTION: Notice of a demonstration project.

SUMMARY: This notice is to advise interested parties of a Military Health System (MHS) demonstration project entitled Demonstration Project for Expanded Access to Mental Health Counselors. The National Defense Authorization Act (NDAA) of Fiscal Year (FY) 2001, Public Law (PL) 106-398, section 731 has directed the Secretary of Defense to conduct a demonstration project for expanded access to mental health counselors under TRICARE. According to the legislation, the Secretary of Defense shall conduct a demonstration project under which licensed and certified professional mental health counselor who meet eligibility requirements for participation as providers under the TRICARE program may provide services to covered beneficiaries under Chapter 55 of Title 10, United States Code, without referral by physicians or adherence to supervision requirements.

EFFECTIVE DATE: This demonstration project applies to all covered beneficiaries 18 years of age or older under chapter 55 of Title 10, United States Code who receive mental health services within the demonstration region and a non-demonstration region following full implementation of the demonstration, which will occur upon announcement of this notice and will be in effect for two years.

FOR FURTHER INFORMATION CONTACT: CAPT Mark Paris, Office of the Assistant Secretary of Defense (Health Affairs)—TRICARE Management Activity, (703) 681-0064.

SUPPLEMENTARY INFORMATION:

A. Background

Section 731 of the National Defense Authorization Act for Fiscal Year 2001 directs the Department to conduct a demonstration project under which licensed and certified professional mental health counselors who meet eligibility requirements for participation as providers under the Civilian Health and Medical Program of the Uniformed Services (CHAMPUS) or the TRICARE program may provide services to covered beneficiaries under chapter 55 of Title 10, U.S.C., without referral by physicians or adherence to supervision requirements.

Currently, licensed or certified mental health counselors must meet several eligibility and administrative requirement to be an authorized Civilian Health and Medical Program of the Uniformed Services (CHAMPUS)/TRICARE provider. These requirements include documentation of a referral from a physician, ongoing supervision of their services by a physician, and certification of written communication and follow-up with the physician following each service visit. Services provided by other mental health professionals, including licensed clinical social workers, clinical psychologists, and psychiatric nurse specialists, are currently reimbursed independent of referral or supervision by a physician.

The NDAA for FY 2001 requires the Department of Defense to conduct a demonstration project for expanded access to mental health counselors under TRICARE. The Secretary of Defense has been directed to conduct a demonstration project under which licensed and certified professional mental health counselors who meet eligibility requirements for participation as providers under the TRICARE program may provide services to covered beneficiaries under chapter 55 of Title 10, United States Code, without referral by physicians or adherence to supervision requirements.

The legislation further requires an assessment of the extent to which independent reimbursement of licensed or certified mental health counselors impacts utilization and reimbursement costs for such services, and affects the confidentiality of and treatment outcomes for covered beneficiaries seeking mental health services. The legislation also directs a description of the administrative costs associated with documenting referrals and supervision, and an assessment of the impact of independent reimbursement on the willingness of providers to participate in TRICARE.

B. Description of Demonstration Project

Location of Project: The Demonstration will be conducted in the TRICARE Central Region because of the relatively high utilization of mental health counselors in that region. Comparison data will be gathered from the Central Region and if necessary, from another TRICARE region.

Project Components: The Project will include implementation and evaluation components.

I. Implementation

Licensed and/or certified mental health counselors in the Colorado Springs and Omaha catchment areas who are members of the Central Region TRICARE network will be invited to participate in this two year demonstration. Under the demonstration, participating counselors will be allowed to provide services to TRICARE beneficiaries without receipt of either a physician referral or physician case supervision. Counselors will be asked to sign a participant agreement form acknowledging the temporary nature of the demonstration. Potential beneficiaries/clients of these counselors will be provided with information about the demonstration and be asked to sign an informed consent form to acknowledge their understanding of the demonstration and the potential risks of participation. There will be no other changes to the normal treatment processes for beneficiaries. Claims submitted by participating counselors will be flagged and processed for independent reimbursement by TRICARE (to allow for processing without the supervision and referral).

II. Evaluation

Rand Corporation will be responsible for gathering data on:

A. Utilization and reimbursement regarding non-physician mental health professionals other than licensed or certified professional mental health counselors under CHAMPUS and the TRICARE program.

B. Utilization and reimbursement regarding physicians who make referrals to, and supervise mental health counselors.

C. Administrative costs incurred as a result of the requirement for documentation of referral to mental health counselors and supervision activities for such counselors.

D. A comparison of data for a one-year period for the area in which the demonstration is being conducted with corresponding data for a similar area in which the demonstration project is not being implemented.

E. A description of the ways in which allowing for independent reimbursement of licensed or certified professional mental health counselors affects the confidentiality of mental health and substance abuse services for covered beneficiaries under CHAMPUS and the TRICARE program.

F. A description of the effect, if any, of changing reimbursement policies on the health and treatment of covered beneficiaries under CHAMPUS and the TRICARE program, including a comparison of the treatment outcomes of covered beneficiaries who receive mental health services from licensed or certified professional mental health counselors acting under physician referral and supervision, other non-physician mental health providers recognized under CHAMPUS and the TRICARE program, and physicians, with treatment outcomes under the demonstration project allowing independent practice of professional counselors on the same basis as other non-physician mental health providers.

G. The effect of policies of the Department on the willingness of licensed or certified professional mental health counselors to participate as health care providers in CHAMPUS and the TRICARE program.

H. Any policy requests or recommendations regarding mental health counselors made by health care plans and managed care organizations participating in CHAMPUS or the TRICARE program.

Dated: August 4, 2002.
Patricia L. Toppings,
Alternate OSD Federal Register Liaison Officer, Department of Defense.

[FR Doc. 02-23029 Filed 9-10-02; 8:45 am]

BILLING CODE 5001-08-M